DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Participation Survey.

Form Number(s): None.

OMB Control Number: None.

Type of Request: New collection.

Burden Hours: 1,667.

Number of Respondents: 4,000.

Average Hours per Response: 25 minutes.

Needs and Uses: Every ten years, the U.S. Census Bureau is constitutionally and congressionally mandated, pursuant to Title 13 U.S.C. Section 141, to count everyone (citizens and non-citizens) residing in the United States. An accurate count is critical for many reasons including but not limited to:

• Congressional reapportionment;

• Redistricting congressional boundaries;

• Community planning; and

• Distribution of public funds and program development.

To facilitate the data collection effort for the 2010 Census, the Census Bureau is developing an Integrated Communications Plan (ICP). Toward that end, the Census Bureau has contracted with DraftFCB to develop and implement an integrated communications campaign for the 2010 Census. DraftFCB had contracted with MACRO International, Inc. (who in turn has subcontracted with Human Resources Research Organization) to conduct a nationwide quantitative data collection to understand the barriers and motivators underlying participation (or lack thereof) in Census 2010. This data collection is critical to ensure the utility and effectiveness of the ICP.

The role of the ICP is to increase public awareness and motivate people to respond to the census promptly, saving millions of taxpayer dollars. The specific objectives of the ICP are:

• Increase mail response;

• Improve cooperation with enumerators; and

• Improve overall accuracy and reduce differential undercount.

From 1970—the first year questionnaires were mailed to households—to 1990, the mail response rate declined from 78 percent to 65 percent. To halt the declining mail response rate, the Census Bureau ran a paid advertising campaign to support data collection activities for the 2000 Census. This campaign was considered a very successful initiative and one of several reasons cited with helping to reverse declining mail response rates.

The target mail response rate for the 2010 Census has been set at 69 percent, higher than the 67 percent obtained in Census 2000. To support this goal, the ICP includes a communications campaign based on behavior during the 2000 Census and current knowledge, attitudes, perceptions, barriers, and motivations specific to 2010 Census participation.

The Census Bureau is requesting clearance for DraftFCB's subcontractor, MACRO International, Inc. to conduct the Census Participation Survey to gain an in-depth understanding of the public's opinions about the 2010 Census. Collecting this information allows the Census Bureau to explore underlying factors contributing to public views of the 2010 Census; identify census related behavioral drivers and barriers; determine communication channels for reaching historically hard-to-count populations; and analyze messages they should convey to motivate the public to participate—potentially saving hundreds of millions of taxpayer dollars used to collect the census data.

The primary purpose of the Census Participation Survey is to inform tactical and strategic decisions for the ICP. This research is designed to complement previous participation research conducted for Census 2000 as well as the Census Planning Database (a geographic summary file with Census 2000 response information) to inform the strategic direction of the 2010 Census Integrated Communications Plan (ICP). The data collected will not be used to produce official Census Bureau estimates of the population.

When possible, respondents to the Census Participation Survey will be matched to the Census Planning Database (PDB) by tract number to link to Census 2000 census participation and hard-to-count data. In cases where a link to tract can be made, we will further roll cases back up into an eight-cluster segmentation scheme based on the PDB. The Census Participation Survey will make use of three different sampling frames described below:

Address Frame: No address information is collected from the respondent. The selected addresses are sampled from the USPS's Delivery Sequence File (DSF) and geo-coded to link to census tract.

RDD Landline Frame: No address information is collected from the respondent. Telephone numbers will be reverse matched to local telephone directories to identify as many addresses as possible. These addresses will be geo-coded to link to census tract. For those with no match (unlisted telephone numbers), we use the estimated census tract based on the telephone exchange and geographic associations.

RDD Cell Phone Frame: For cell phone respondents, we cannot determine geographic location since cell phone area codes are not always geographically associated. Instead, we will rely on demographic data such as age, marital status, mobility, tenure, and whether the household is cell-phone only to assign interviews into segment.

The combined data will be used to measure census awareness, attitudes, knowledge, and likelihood to respond to the census. This data will be used to further define the audience segmentation clusters to inform the communications strategy. Further, the data will be used to evaluate census messaging alternatives and analyze media consumption by audience segmentation.

The Census Participation Survey also serves as a baseline measure of 2010 Census for monitoring change in awareness and intent to participate during the build-up and execution of Census 2010.

Affected Public: Individuals or households.

Frequency: One-time.

Respondent's Obligation: Voluntary.

Legal Authority: The legal authority under which this information is being collected is the general authority of the Census Bureau to undertake the decennial Census in 2010, Title 13 U.S.C. 141.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to Brian Harris-Kojetin, OMB Desk Officer by fax (202-395-7245) or e-mail (bharrisk@omb.eop.gov).

Dated: March 5, 2008.
Gwellnar Banks,
Management Analyst, Office of the Chief Information Officer.

[FR Doc. E8-4635 Filed 3-7-08; 8:45 am]

BILLING CODE 3510-07-P